ENVIRONMENTAL PROTECTION AGENCY

[FRL-7660-8]

Request for Nominations to the National Advisory Council for Environmental Policy and Technology (NACEPT)

AGENCY: Environmental Protection Agency (EPA).

ACTION: Notice of request for nominations.

SUMMARY: The U.S. Environmental Protection Agency invites nominations to fill vacancies on its National Advisory Council for Environmental Policy and Technology (NACEPT). The Agency seeks qualified senior-level decision makers from diverse sectors throughout the United States to be considered for appointments. EPA encourages interested applicants to send their resumes and qualifications as soon as possible.

ADDRESSES: Submit nominations to: Ms. Sonia Altieri, Designated Federal Officer, Office of Cooperative Environmental Management, U.S. Environmental Protection Agency (1601E), 1200 Pennsylvania Avenue, NW., Washington, DC 20460.

FOR FURTHER INFORMATION CONTACT: Sonia Altieri, Designated Federal Officer for NACEPT, U.S. Environmental Protection Agency (1601E), 1200 Pennsylvania Avenue, NW., Washington, DC 20460; telephone (202) 233-0061, e-mail: altieri.sonia@epa.gov

SUPPLEMENTARY INFORMATION: NACEPT is a federal advisory committee under the Federal Advisory Committee Act, PL 92463. The U.S. Environmental Protection Agency established NACEPT in 1988 to provide independent advice to the EPA Administrator on a broad range of environmental policy, technology and management issues. NACEPT consists of a representative cross-section of EPA's partners, stakeholders, and constituents who provide timely advice and recommendations on environmental issues, and serve as a sounding board for new strategies that EPA is developing.

We anticipate the Council addressing issues related to environmental technology, environmental foresight, and collaborative approaches to environmental problems. NACEPT will provide advice in a timely manner and operate as a proactive and strategic body that will alert EPA to potential environmental challenges and issues that could impact the Agency's ability to protect public health and the environment, and options to address them.

Members are appointed by the Administrator of EPA for two year terms with the possibility of reappointment. The Council usually meets 3-4 times annually and the average workload for the members is approximately 10 to 15 hours per month. Members serve on the Council in a voluntary capacity; however, EPA does provide reimbursement for travel expenses associated with official government business.

Maintaining a balance and diversity of expertise, knowledge, and judgement is an important consideration in the selection of members. Potential candidates should possess the following qualifications:

Occupy a senior position within their organization

Broad experience outside of their current position

Experience dealing with public policy issues

Membership in broad-based networks

Extensive experience in the environmental field

Recognized expert in the subject matter to be addressed by NACEPT

EPA is seeking nominees for representation from all sectors, in particular federal, state, local and tribal agencies, academia, industry, environmental justice, and non-governmental organizations. Nominations for membership must include a resume and short biography describing the educational and professional qualifications of the nominee and the nominee's current business address and daytime telephone number.

Dated: May 6, 2004.
Sonia Altieri,
Designated Federal Officer.

[FR Doc. 04-10878 Filed 5-12-04; 8:45 am]

BILLING CODE 6560-50-P